NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 12, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-10-4, 313 items, 303 temporary items). Records related to various programs throughout the agency, including general correspondence, reports, studies, plans, audits, case files, interagency, intergovernmental, and commercial agreements. Proposed for permanent retention are administrative history files, national resource planning policy files, program development and planning files, heritage program management files, habitat planning and evaluation surveys, geologic resources files, and watershed protection and flood protection reports.

2. Department of Agriculture, Forest Service (N1-95-12-6, 1 item, 1 temporary item). Records pertaining to fees collected for campground permits.

3. Department of Agriculture, Rural Development (N1-572-09-4, 1 item, 1 temporary item). Master files of an electronic information system containing copies of loan documents.

4. Department of Commerce, National Telecommunications and Information Administration (N1-417-12-1, 1 item, 1 temporary item). Federal spectrum certification applications, including requests for frequency assignments, geographic area information, operating units, requirement criteria, and equipment lists.

5. Department of Defense, National Reconnaissance Office; Department of Defense, National Geospatial-Intelligence Agency; Department of Defense, National Security Agency (N1-525-11-1, 11 items, 7 temporary items). Routine policy and administrative records associated with a multi-mission ground station including site level committee records, visitor arrangement files, briefing materials, charitable fund-raising records, and standard operating instructions. Proposed for permanent retention are site-specific policy and agreement files and historical files on the establishment of the ground station.

6. Department of Health and Human Services, Indian Health Service (DAA-0513-2012-0004, 11 items, 11 temporary items). Records include administrative files, correspondence, notices, and memoranda relating to Health Insurance Portability and Accountability Act privacy requests.

7. Department of Justice, Agency-wide (DAA-0060-2011-0009, 6 items, 5 temporary items). Records of internal administrative guidance and directives. Proposed for permanent retention are record copies of all orders signed by the Attorney General.

8. Department of Justice, Federal Bureau of Investigation (N1-65-11-25, 2 items, 2 temporary items). Records relating to the administration of aircraft and other surveillance equipment in support of agency operations.

9. Department of Justice, Federal Bureau of Investigation (N1-65-11-29, 4 items, 4 temporary items). Records relating to testing and eligibility for agent and police officer promotions.

10. Department of Justice, Justice Management Division (N1-60-09-43, 8 items, 8 temporary items). Content and management records for the agency's internal Web site.

11. Department of State, Bureau of International Organizations (DAA-0059-2011-0014, 2 items, 1 temporary item). Records of the Office of Policy, Regional, and Functional Organizations, including working files and copies of memorandums, briefing books, and issue papers. Proposed for permanent retention are records establishing the office.

12. Department of State, Bureau of Diplomatic Security (DAA-0059-2011-0016, 6 items, 6 temporary items). Records of the Office of Information Security documenting the approval and use of secure facilities, visitor and access requests, correspondence related to contractors, and master files of electronic information systems used to track security incidents and security requirements.

13. Department of State, Office of the Under Secretary for Public Diplomacy and Public Affairs (N1-59-11-12, 1 item, 1 temporary item). Master files of an electronic information system used for recording and tracking short-term missions and diplomatic activities worldwide.

14. Department of Transportation, Federal Railroad Administration (N1-399-07-21, 19 items, 14 temporary items). General Law Division records including routine legislative and litigation case files, general subject files, and attorney working files. Proposed for permanent retention are legislation, subject and litigation case files designated as landmark as well as historical program files.

15. Department of Transportation, Federal Railroad Administration (N1-399-08-2, 17 items, 14 temporary items). Safety Law Division records including routine legislative and litigation case files, subject files, closed civil cases, enforcement files, attorney working files, copies of discovery documents, and master files of an electronic information system used to track workflow. Proposed for permanent retention are legislation and litigation case files and subject files designated as landmark.

16. Department of Transportation, Federal Railroad Administration (N1-399-08-9, 3 items, 2 temporary items). Master files of an electronic information system used for processing post-accident toxicological testing. Proposed for permanent retention are master files of an electronic information system containing toxicology test results and related accident information.

17. Department of Transportation, Federal Railroad Administration (N1-399-08-12, 33 items, 26 temporary items). Office of Railroad Safety records including routine administrative requests, audit case files, copies of published court dockets, subject files, and safety related program files for railroad administration. Proposed for permanent retention are case files of major accident investigations, safety records for Amtrak operations, high-speed rail records, merger records, recommendations, orders, and advisories.

18. Department of Transportation, Federal Transit Administration (N1-408-11-22, 4 items, 3 temporary items). Organization background files and copies of organization planning files. Proposed for permanent retention are a master set of organization planning files.

19. Department of Transportation, Federal Transit Administration (N1-408-11-23, 3 items, 2 temporary items). Case files for directives regarding one-time or temporary instructions and directives from other agencies. Proposed for permanent retention are case files for directives regarding policy, organization, and procedures.

20. Department of the Treasury, Financial Crimes Enforcement Network (N1-559-11-1, 15 items, 7 temporary items). Records of the Office of the Director, including case tracking files, development files for publications and reports, and web maintenance records. Proposed for permanent retention are program files, organization files, policy records, public affairs records, and publications.

21. Department of the Treasury, Financial Management Service (N1-425-09-5, 7 items, 6 temporary items). Records of transactions and administration of collections, payments, and claims. Proposed for permanent retention are significant policy files governing these activities.

22. Administrative Office of the United States Courts, United States Courts of Appeals (N1-276-09-1, 2 items, 1 temporary item). Non-electronic administrative correspondence for appellate case files. Proposed for permanent retention are non-electronic case files.

23. Administrative Office of the United States Courts, United States District Courts (N1-21-11-2, 1 item, 1 temporary item). Electronic sound recordings of criminal case sentencing filed with the clerk of court in lieu of transcripts.

24. Federal Communications Commission, Agency-wide (N1-173-09-2, 1 item, 1 temporary item). Master files of an electronic information system used to report on trends in communications service quality.

25. Nuclear Regulatory Commission, Office of Federal and State Materials and Environmental Management Programs and Office of Nuclear Material Safety and Safeguards (N1-431-08-3, 4 items, 4 temporary items). Master files and outputs of an electronic information system used to manage information about sealed sources and devices licensed by the agency.

26. Nuclear Regulatory Commission, Office of Federal and State Materials and Environmental Management Programs (N1-431-08-6, 4 items, 4 temporary items). Master files and outputs of an electronic information system used to manage information about nationally tracked sealed sources licensed by the agency.

27. Nuclear Regulatory Commission, Regional Offices (N1-431-08-14, 2 items, 2 temporary items). Master files and outputs of electronic information systems that maintain information on safety status and incidents at licensed nuclear facilities.

28. Nuclear Regulatory Commission, Office of Nuclear Material Safety and Safeguards (N1-431-08-17, 4 items, 3 temporary items). Master files and outputs of an electronic information system used to manage information about containers licensed for use in transporting nuclear material. Proposed for permanent retention are reports that describe licensed containers.

29. Nuclear Regulatory Commission, Office of Nuclear Regulatory Research (N1-431-08-21, 3 items, 2 temporary items). Master files and status reports of an electronic information system used to track generic safety issues at licensed nuclear facilities. Proposed for permanent retention are formal reports relating to these issues.

30. Nuclear Regulatory Commission, Office of Federal and State Materials and Environmental Management Programs (N1-431-09-1, 3 items, 1 temporary item). Master files of an electronic information system used to maintain information about incidents involving nuclear materials, including equipment failure, lost materials, leaking of sealed sources, exposure of individuals to radiation, and misadministration of medical doses of radiation. Proposed for permanent retention are quarterly and annual reports on the incidents.

Dated: May 31, 2012.
Paul M. Wester, Jr.,
Chief Records Officer for the U.S. Government.

[FR Doc. 2012-14222 Filed 6-11-12; 8:45 am]

BILLING CODE 7515-01-P